DEPARTMENT OF COMMERCE

National Oceanic and Atmospheric Administration

[RTID 0648-XA402]

Pacific Ocean AquaFarms Environmental Impact Statement

AGENCY: National Marine Fisheries Service (NMFS), National Oceanic and Atmospheric Administration (NOAA), Commerce.

ACTION: Notice of intent to prepare an Environmental Impact Statement; request for comments.

SUMMARY: NOAA is publishing this Notice of Intent (NOI) to prepare an Environmental Impact Statement (EIS) for the proposed development of a commercial-scale finfish aquaculture facility to be located in Federal waters off the coast of southern California. The proposed facility would require two Federal permits: A Section 402 Clean Water Act (CWA) permit, and a Section 10 Rivers and Harbor Act (RHA) permit, over which the U.S. Environmental Protection Agency (EPA) and U.S. Army Corps of Engineers (USACE), respectively, have authority. The EPA and USACE will act as cooperating agencies for purposes of this EIS. This NOI initiates the public scoping process for the EIS during which time interested parties are invited to provide comments on the proposed project, its potential to effect the human environment, means for avoiding, minimizing, or mitigating those effects, the preliminary reasonable range of alternatives, and any additional reasonable alternatives that should be considered.

DATES: Written comments on the scope of the analysis to be considered in the draft EIS must be submitted no later than October 26, 2020.

Two public meetings (in webinar format) are scheduled for October 14, 2020 at 3 p.m.-5 p.m. Pacific Daylight Time and October 16, 2020 at 1 p.m.-3 p.m. Pacific Daylight Time.

ADDRESSES: You may submit comments on this document, identified by NOAA-NMFS-2020-0117, by using the Federal e-Rulemaking Portal. Go to www.regulations.gov and enter NOAA-NMFS-2020-0117. Click the “Comment Now!” icon, complete the required fields, and enter or attach your comments.

Comments sent by any other method, to any other address or individual, or received after the end of the comment period, may not be considered by NOAA. All comments received are a part of the public record and will generally be posted for public viewing on www.regulations.gov without change. All personal identifying information (e.g., name, address, etc.), confidential business information, or otherwise sensitive information submitted voluntarily by the sender will be publicly accessible. NOAA will accept anonymous comments (enter “N/A” in the required fields if you wish to remain anonymous).

The webinar link for October 14 and 16, 2020, is https://bit.ly/34sj1UT. You may also participate by phone toll-free at 844-621-3956 with access code: 146 738 1449.

FOR FURTHER INFORMATION CONTACT: Steve Leathery, National NEPA Coordinator, NMFS; phone: 301-427-8013; email: poa.eis@noaa.gov; or website: https://www.fisheries.noaa.gov/national/aquaculture/pacific-ocean-aquafarms-environmental-impact-statement.

SUPPLEMENTARY INFORMATION: As required by the National Environmental Policy Act (NEPA), the EIS will analyze the environmental consequences of implementing each of the alternatives, if carried forward for full review following public scoping, by assessing the direct, indirect, and cumulative effects of each alternative on the human environment. This EIS will be prepared in accordance with the requirements of NEPA and implementing regulations published by the Council on Environmental Quality in 1978, and amended in 1986 and 2005 (40 CFR parts 1500-1508).

Background

Pacific Ocean AquaFarms (POA), the applicant, proposes to construct, operate, and maintain an offshore marine finfish aquaculture operation comprised of floating surface pens in Federal waters located approximately 4 nautical miles (7.4 kilometers) off the coast of San Diego, California. To identify a site for the proposed action, POA sought spatial analysis expertise from the NOAA National Ocean Service (NOS) to identify potential offshore locations that would be technically and commercially feasible while minimizing environmental effects. The technical and commercial parameters for the proposed project were established by the applicant to identify potential sites. Those parameters included, but were not limited to the following:

• Within 35 nautical miles (65 kilometers) of suitable port(s);

• Minimum and Maximum Depth to Seafloor: ≥ 100 feet (30 meters) and < 495 feet (150 meters);

• Suitability for Species: California yellowtail (Seriola dorsalis)—(other native or naturalized species may also be cultivated that have the same requirements for temperature, space, and other fixed parameters); and

• Gear Type: Submersible net pen.

The NOS siting analysis included review of other engineering, development, and environmental constraints, including but not limited to presence of submarine cables, oil and gas infrastructure or leases, squid and trawl fisheries, wastewater treatment discharge structures, shipping lanes and high vessel traffic areas, marine protected areas, deep sea corals and hard bottom habitat, and marine mammal migration routes. The siting analysis included a review by the U.S. Department of Defense (DoD) to ensure that potential sites avoided areas of DoD operations in Federal waters, which are extensive offshore of southern California.

POA and NOS identified a site that best meets the technical, commercial, and environmental parameters within an area located approximately 4 nautical miles (7.4 kilometers) offshore of San Diego, California. Following initial site identification, POA coordinated with local U.S. Navy commands and organizational units and received informal approval from the DoD.

NOAA has directives to preserve ocean sustainability and facilitate domestic aquaculture in the U.S. consistent with the National Aquaculture Act of 1980, the NOAA Marine Aquaculture Policy (2011), and Presidential Executive Order 13921—“Promoting American Seafood Competitiveness and Economic Growth” (May 7, 2020) through, among other things, providing technical expertise and supporting environmental review and permitting of commercial scale aquaculture proposals. NOAA may also be called upon to engage in consultations, permitting, and authorization for such projects under the Endangered Species Act, the Magnuson-Stevens Fishery Management and Conservation Act, and the Marine Mammal Protection Act.

Purpose and Need

The proposed Federal action includes decisions on two permits under the respective authorities of the EPA and the USACE as required to site, install, and operate the proposed aquaculture facility. The EPA's proposed Federal action is the issuance, if appropriate, of a National Pollutant Discharge Elimination System (NPDES) permit, which would authorize effluent discharge from an aquatic animal production facility because such discharges are considered a point source discharge into waters of the U.S. The USACE's proposed Federal action is the issuance, if appropriate, of a permit pursuant to Section 10 of the RHA that authorizes structures and work in navigable waters of the U.S.

Agency Purpose and Need

The EPA has authority to issue NPDES permits pursuant to Section 402 of the CWA and regulations at 40 CFR part 125, subpart M. Under Section 402, all point sources that discharge directly into U.S. waters are required to obtain an NPDES permit from the EPA. Each NPDES permit specifies effluent limitations for particular pollutants, as well as monitoring and reporting requirements for the proposed discharge. POA intends to apply for a NPDES permit from the EPA. Because the POA facility is proposed in Federal waters, it requires a NPDES permit to operate and the EPA will evaluate POA's permit application pursuant to the CWA and implementing regulations. The NPDES permit, if issued, would authorize POA to discharge pollutants into waters of the U.S. The EPA has a statutory responsibility to respond to applicant requests for NPDES permits. EPA is required to review applications and, if appropriate, issue NPDES permits under the CWA.

The USACE has authority to issue permits pursuant to Section 10 of the RHA and regulations at 33 CFR parts 320-332. Prior authorization (a permit) is required for installation of structures and work in, over, or under navigable waters of the U.S. This will require evaluation of impacts to navigation and public interests. The USACE's proposed Federal action is a direct outcome of POA's permit application to establish and operate a commercial-scale finfish facility in marine waters off the southern California coast; thus, the purpose of USACE's action is to evaluate POA's application pursuant to the RHA. The USACE has a statutory responsibility to respond to applicant requests for Section 10 permits. USACE is required to review applications and, if appropriate, issue permits under Section 10 of the RHA.

Applicant Purpose and Need

The applicant's stated purpose of the proposed project is to construct and operate a new commercial-scale, offshore finfish aquaculture facility in the U.S. Exclusive Economic Zone (EEZ) off the southern California coast.

The United Nations estimates that the world population will reach approximately 9.7 billion people by the year 2050, and approximately 11.0 billion people by the year 2100. With this approximate 26 to 43 percent growth in population, the demand for food (and protein) will also grow proportionally. Terrestrial meat production cannot support this demand without significant land use and environmental consequences.

The U.S. has the world's largest EEZ including a wide range of habitats and farmable species with the resultant potential to support large stocks of wild fish species and extensive offshore aquaculture operations to provide additional protein sources for the U.S. and exports. However, many wild fisheries within the EEZ are at, or near, maximum sustainable yield and the U.S. is one of the world's largest importers of fish and fishery products. By weight, greater than 85 percent of the seafood Americans eat comes from abroad, over half of it from aquaculture. The U.S. is ranked 17th in the world for aquaculture production as of 2018, contributing to an annual $16.8 billion seafood industry trade deficit.

By operating in U.S. waters, POA would be under U.S. regulatory oversight. Data generated and collected from the aquaculture facility could provide multiple benefits to government agencies, universities, fisheries managers, and the scientific community. Such a commercial-scale, offshore aquaculture facility would provide an opportunity for study, new technology development, and transferable knowledge and would be the first of its kind in California waters.

Preliminary Reasonable Range of Alternatives for Consideration

NOAA has identified a proposed action and preliminary alternatives for potential consideration in the draft EIS. Both a no-action and several preliminary action alternatives are presented for consideration for public review and comment. NOAA is also soliciting additional alternatives for consideration.

No-Action Alternative

Under the no-action alternative, the EPA and USACE would not issue permits and the applicant would not be authorized to construct or operate a finfish aquaculture facility offshore of southern California; and the project's direct, indirect, and cumulative impacts would not occur. Under the no-action alternative, the proposed project would not take place, however the resulting environmental effects of no action would be compared with the effects of allowing the proposed project or an alternate project to go forward.

Reasonable Range of Action Alternatives

Action alternatives describe potential alternative approaches to achieve the defined purpose and need of the proposed action. NOAA is considering the following action alternatives at this time: The San Diego Site Alternative (applicant's proposed action), Long Beach Site Alternative, and Half-Scale Alternative at either location.

San Diego Site Alternative

POA proposes to construct and operate a new commercial-scale, offshore source of finfish in the U.S. EEZ approximately 4 nautical miles (7.4 kilometers) off the coast of San Diego. An area of approximately 1,000 acres (4 square kilometers) (exact area to be determined based on engineering design) is sited as suitable for potential use; of this, approximately 717 acres (2.9 square kilometers) would be occupied by the project, including a total of 28 submersible pens, anchors and mooring lines, and surface marker buoys. The total area may change relative to the exact location of the pen grids, the relative depth of the pens, and the final engineering requirements that would delineate the location, number, and depth of mooring lines. Initial production is projected to yield 2.2 million pounds (1,000 metric tons) annually growing up to 11 million pounds (5,000 metric tons) after environmental monitoring confirms that each successive scale of expansion has not resulted in any substantial environmental or space-use impacts. California yellowtail (Seriola dorsalis) would be the initial cultivated species, as it is native to California waters. Other local species such as white seabass (Atractoscion nobilis), may be grown in addition to or in lieu of California yellowtail when the project has become operational under Federal and state permit requirements.

The project would utilize established and tested pen and mooring technologies that are able to withstand storm and rough sea conditions. The POA pen culture system would be constructed of high density poly-ethylene pipe with a suspended copper-alloy mesh to control for fouling organisms and inhibit parasitic infestations. The pens would have an approximately 98.4-foot (30-meter) diameter and 46-foot (14-meter) depth. The mooring system would be designed with 2 pen grids, each containing 2 rows of 7 pens (28 pens total) with grid cell dimensions of 328 feet by 328 feet (100 meters by 100 meters). The mooring system would be made of nylon ropes, galvanized steel shackles, and buoys (surface and subsurface) located at nodes in the grid. Steel chains and anchors or concrete blocks would secure the system to the ocean floor.

Once all applicable permits are obtained, construction of the aquaculture facilities will take approximately 1 year. Stocking of the cages would then occur sometime within the following year with the first commercial harvest occurring 18 to 24 months later. POA would scale up production after initial yields are reached and subject to environmental monitoring. The anticipated maximum production up to 11 million pounds (5,000 metric tons) per year would occur approximately 3 to 6 years after the project is constructed.

Once operational, the aquaculture facility would follow Best Aquaculture Practices set forth by the Aquaculture Stewardship Council (in collaboration with the World Wildlife Foundation) and the Global Aquaculture Alliance. The applicant has proposed to only work with feed suppliers and processing facilities that are Best Aquaculture Practices certified.

Dedicated vessels would haul feed, personnel, and harvested fish to and from the aquaculture facility daily from the Port of San Diego. The vessels would include an offshore feeding system, harvest vessel, multiuse vessel, and a personnel transport vessel. A dedicated harvest vessel would visit the aquaculture facility site at least three times per week at full production to remove fish from the net pens. Actual frequency of use would depend on time of year and harvesting schedule as determined by fish growth and aquaculture facility need.

Landside facilities would include existing facilities and infrastructure at the Port of San Diego. Pier or wharf access would be needed for construction staging and preparation and loading and unloading of feed and harvested fish; occasional access would also be needed to transport juvenile fish to the aquaculture facility, and to accommodate vessel docking or mooring capacity for multiple vessels of various lengths.

Long Beach Site Alternative

This action alternative would construct and operate the POA aquaculture grid arrays offshore at approximately 4 nautical miles (7.4 kilometers) southwest of Sunset Beach in Long Beach. The Long Beach site has not been analyzed by the DoD to receive informal clearance. However, the analysis conducted by NOS included review of DoD spatial data regarding operating areas, ocean disposal areas, unexploded ordnances, danger zones, and restricted areas and adequate surface and seafloor space was identified that avoided these areas. Onshore facilities needed for this alternative would be similar to those identified for the proposed action, but would be expected to be located within existing developed areas at the Port of Long Beach or the Port of Los Angeles. Aside from the different site location, this alternative would be of similar size at full build-out, would use the same net pen design, anchoring design, phased development, and operational plans as the San Diego Site Alternative.

Half-Scale Alternative

This action alternative would consider an initial projected production of 2.2 million pounds (1,000 metric tons) and a final production of 5.5 million pounds (2,500 metric tons) from 3 to 6 years after the project is constructed and operated. This production level and project spatial extent would be approximately half that described in the San Diego Site Alternative. The anchoring and mooring system for a single submerged grid would use the same engineering design as the full-scale San Diego Site Alternative. Only 1 pen grid containing 2 rows of 7 pens (14 pens total) would be installed. The half-scale alternative would be analyzed for both the San Diego and Long Beach Alternative sites.

Action Alternatives Summary

Currently, two location alternatives and a half-scale alternative are being considered for detailed analysis in the EIS. The two location alternatives in southern California—San Diego and Long Beach—are considered for the off-shore finfish aquaculture site and the landside facilities that would be used to receive, process, and distribute the harvested fish.

Dated: September 2, 2020.
Samuel D. Rauch III,
Deputy Assistant Administrator for Regulatory Programs, National Marine Fisheries Service.

[FR Doc. 2020-19921 Filed 9-8-20; 8:45 am]

BILLING CODE 3510-22-P